DEPARTMENT OF LABOR

Employment and Training Administration

[TA-W-65,028, TA-W-65,028A, TA-W-65,028B, TA-W-65,028C, TA-W-65,028D, TA-W-65,028E]

Team Industries, Inc., Including On-Site Leased Workers From Work Connection, Express Employment Professionals, Express Personnel Services and Masterson Personnel, Detroit Lakes, MN; Team Industries, Inc., Including On-Site Leased Workers From Work Connection, Express Employment Professionals, Express Personnel Services and Masterson Personnel, Cambridge, MN; Team Industries, Inc., Including On-Site Leased Workers From Work Connection, Express Employment Professionals, Express Personnel Services and Masterson Personnel, Bagley, MN; Team Industries, Inc., Including On-Site Leased Workers From Work Connection, Express Employment Professionals, Express Personnel Services and Masterson Personnel, Audubon, MN; Team Industries, Inc., Including On-Site Leased Workers From Work Connection, Express Employment Professionals, Express Personnel Services and Masterson Personnel, Park Rapids, MN; Team Industries, Inc., Including On-Site Leased Workers From Work Connection, Express Employment Professionals, Express Personnel Services and Masterson Personnel, Baxter, MN; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility to Apply for Worker Adjustment Assistance and Alternative Trade Adjustment Assistance on February 27, 2009, applicable to workers of Team Industries, Inc., Detroit Lakes, Minnesota, Cambridge, Minnesota, Bagley, Minnesota, Audubon, Minnesota, Park Rapids, Minnesota and Baxter, Minnesota. The notice was published in the Federal Register on March 19, 2009 (74 FR 11757).

At the request of the State agency, the Department reviewed the certification for workers of the subject firm. The workers are engaged in the production of drive train components for recreational vehicles.

New information shows that workers leased from Work Connection, Express Employment Professionals, Express Personnel Services and Masterson Personnel were employed on-site at the Detroit Lakes, Minnesota, Cambridge, Minnesota, Bagley, Minnesota, Audubon, Minnesota, Park Rapids, Minnesota and Baxter, Minnesota locations of Team Industries, Inc. The Department has determined that these workers were sufficiently under the control of the subject firm to be considered leased workers.

Based on these findings, the Department is amending this certification to include workers leased from the above mentioned firms working on-site at the above mentioned locations of Team Industries, Inc.

The amended notice applicable to TA-W-65,028 is hereby issued as follows:

All workers of Team Industries, Inc., including on-site leased workers from Work Connection, Express Employment Professionals, Express Personnel Services and Masterson Personnel, Detroit Lakes, Minnesota (TA-W-65,028), Team Industries, Inc., including on-site leased workers from Work Connection, Press Employment Professionals, Express Personnel Services and Masterson Personnel, Cambridge, Minnesota (TA-W-65,028A), Team Industries, Inc., including on-site leased workers from Work Connection, Express Employment Professionals, Express Personnel Services and Masterson Personnel, Bagley, Minnesota (TA-W-65,028B), Team Industries, Inc., including on-site leased workers from Work Connection, Express Employment Professionals, Express Personnel Services and Masterson Personnel, Audubon, Minnesota (TA-W-65,028C), Team Industries, Inc., including on-site leased workers from Work Connection, Express Employment Professionals, Express Personnel Services and Masterson Personnel, Park Rapids, Minnesota (TA-W-65,028D), and Team Industries, Inc., including on-site leased workers from Work Connection, Express Employment Professionals, Express Personnel Services and Masterson Personnel, Baxter, Minnesota (TA-W-65,028E) who became totally or partially separated from employment on or after January 28, 2008, through February 27, 2011, are eligible to apply for adjustment assistance under Section 223 of the Trade Act of 1974, and are also eligible to apply for alternative trade adjustment assistance under Section 246 of the Trade Act of 1974.

Signed at Washington, DC, this 16th day of September 2009.
Richard Church,
Certifying Officer, Division of Trade Adjustment Assistance.

[FR Doc. E9-23908 Filed 10-2-09; 8:45 am]

BILLING CODE 4510-FN-P